DEPARTMENT OF HOMELAND SECURITY

Federal Emergency Management Agency

44 CFR Part 67

[Docket ID FEMA-2008-0020; Internal Agency Docket No. FEMA-B-1043]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before June 23, 2009.

ADDRESSES: The corresponding preliminary Flood Insurance Rate Map (FIRM) for the proposed BFEs for each community are available for inspection at the community's map repository. The respective addresses are listed in the table below.

You may submit comments, identified by Docket No. FEMA-B-1043, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Cumberland County, Kentucky and Incorporated Areas
Cumberland River | Approximately 3,300 feet downstream of the confluence with Judio Creek | None | +533 | Cumberland County, City of Burkesville.
| Approximately 1,500 feet upstream of the confluence with Crow Creek | None | +568
Dale Hollow Lake (Obey River) | Approximately 5,000 feet downstream confluence with Hendricks Creek | None | +663 | Cumberland County.
| At the confluence with Illwill Creek | None | +663 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Burkesville
Maps are available for inspection at 600 Courthouse Square, Burkesville, KY 42717.
Cumberland County
Maps are available for inspection at 214 Upper River Street, Burkesville, KY 42717.
Jefferson Davis Parish, Louisiana and Incorporated Areas
Lake Arthur | From the shoreline of and including Lake Arthur North to 7th Street from the East to the West border of the Town of Lake Arthur | +6 | +8-10 | Town of Lake Arthur, Unincorporated Areas of Jefferson Davis Parish.
Lake Charles | Covering an area beginning at the Southern Border with Cameron Parish, proceeding North along the Calcaceus Parish border to West Niblett Road, to the East to State Route 99. From State Route 99 below State Route 380 to the Town of Lake Charles border | +5-8 | +7-11 | Unincorporated Areas of Jefferson Davis Parish.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Lake Arthur
Maps are available for inspection at 102 Arthur Avenue, Lake Arthur, LA 70549.
Unincorporated Areas of Jefferson Davis Parish
Maps are available for inspection at 304 North State Street, Jennings, LA 70546.
Laclede County, Missouri and Incorporated Areas
Radio Tower Branch | Approximately 2,500 feet upstream from the confluence with Goodwin Hallow | None | +1166 | City of Lebanon.
| Approximately 3,150 feet upstream from the confluence with Goodwin Hallow | None | +1170
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Lebanon
Maps are available for inspection at 400 S. Madison, Lebanon, MO 65536.
McDonald County, Missouri and Incorporated Areas
Beaver Branch | Just downstream of Main Street | None | +884 | City of Anderson, Unincorporated Areas of McDonald County.
| Approximately 1.14 miles upstream from Sellers Street | None | +931
Indian Creek | Approximately 1.15 miles downstream from the confluence of Wild Creek | None | +868 | City of Anderson, Unincorporated Areas of McDonald County.
| Approximately 2.79 miles upstream from Highway 71 | None | +923
Sugar Tree Branch | Just downstream of East Street | None | +888 | City of Anderson, Unincorporated Areas of McDonald County.
| Approximately 1,785 feet upstream from Highway F | None | +948
Wild Creek | Approximately 700 feet downstream from Highway 59 | None | +878 | City of Anderson, Unincorporated Areas of McDonald County.
| Approximately 410 feet upstream from Highway 76 | None | +1002
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Anderson
Maps are available for inspection at 201 West Beaver Street, Anderson, MO 64831.
Unincorporated Areas of Mcdonald County
Maps are available for inspection at 602 Main Street, Pineville, MO 64856.
Ross County, Ohio and Incorporated Areas
Kinnikinnick Creek | 1,850 feet upstream from the confluence of Kinnikinnick Creek and Scioto River | None | +645 | Unincorporated Areas of Ross County.
| 11,050 feet upstream from confluence of Kinnikinnick Creek and Scioto River | None | +666
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Ross County
Maps are available for inspection at 15 N. Paint Street, Chillicothe, OH 45601.
Nacogdoches County, Texas and Incorporated Areas
Bayou La Nana | Approximately 1,246 feet upstream of the confluence with Bayou La Nana and Egg Nog Branch | None | +248 | Unincorporated Areas of Nacogdoches County.
| Approximately 523 feet downstream of Loop 224 | None | +255
Bayou La Nana | Approximately 921 feet upstream of Loop 224 | None | +317 | Unincorporated Areas of Nacogdoches County, City of Nacogdoches.
| Just upstream of Old Post Oak Road | None | +320
Bonita Creek | Approximately 729 feet upstream of Loop 224 | None | +355 | Unincorporated Areas of Nacogdoches County, City of Nacogdoches.
| Just upstream of U.S. Highway 59 | None | +373
Egg Nog Branch | Approximately 1,246 feet upstream of the confluence with Egg Nog Branch and Bayou La Nana | None | +248 | Unincorporated Areas of Nacogdoches County, City of Nacogdoches.
| Approximately 727 feet downstream of Loop 224 | None | +284
Toliver Branch | Confluence of Bayou La Nana and Toliver Branch | None | +317 | Unincorporated Areas of Nacogdoches County, City of Nacogdoches.
| Just upstream of Old Post Oak Road | None | +320
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Nacogdoches
Maps are available for inspection at City Hall, 202 East pilar Street, Nacogdoches, TX 75963.
Unincorporated Areas of Nacogdoches County
Maps are available for inspection at 101 W. Main, Nacogdoches, TX 75961.
Rusk County, Texas and Incorporated Areas
Unnamed Stream off of Turkey Creek | At the confluence of Turkey Creek and Unnamed Stream | None | +329 | City of Henderson.
| Approximately 110 feet downstream from Florence Street | None | +336
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Henderson
Maps are available for inspection at Town Hall, 400 West Main Street, Henderson, TX 75652.
Tom Green County, Texas and Incorporated Areas
Flooding Effects of Red Arroyo | Just upstream of Melrose Avenue | None | +1900 | City of San Angelo.
| Just downstream of Burlington Road | None | +1922
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of San Angelo
Maps are available for inspection at PO BOX 1751, San Angelo, TX 76902.

(Catalog of Federal Domestic Assistance No. 97.022, “Flood Insurance.”)

Dated: March 2, 2009.
Michael K. Buckley,
Acting Assistant Administrator, Mitigation Directorate, Department of Homeland Security, Federal Emergency Management Agency.

[FR Doc. E9-6711 Filed 3-24-09; 8:45 am]

BILLING CODE 9110-12-P